SOCIAL SECURITY ADMINISTRATION

Agency Information Collection Activities: Comment Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB)

Office of Management and Budget, Attn: Desk Officer for SSA, Fax: 202-395-6974, Email address: OIRA_Submission@omb.eop.gov.

(SSA)

Social Security Administration, DCRDP, Attn: Reports Clearance Director, 107 Altmeyer Building, 6401 Security Blvd., Baltimore, MD 21235, Fax: 410-966-2830, Email address: OR.Reports.Clearance@ssa.gov.

SSA submitted the information collections below to OMB for clearance. Your comments regarding the information collections would be most useful if OMB and SSA receive them 30 days from the date of this publication. To be sure we consider your comments, we must receive them no later than July 29, 2013. Individuals can obtain copies of the OMB clearance packages by writing to OR.Reports.Clearance@ssa.gov.

1. Application for Lump Sum Death Payment—20 CFR 404.390-404.392—0960-0013. SSA uses Form SSA-8-F4 to collect information needed to authorize payment of the lump sum death payment (LSDP) to a widow, widower, or children as defined in section 202(i) of the Social Security Act (Act). Respondents complete the application for this one-time payment via paper form, telephone, or during an in-person interview with SSA employees. Respondents are applicants for the LSDP.

Note: This is a correction notice: SSA published the incorrect burden information for this collection at 78 FR 21183, on 4/09/13. We are correcting this error here.

Type of Request: Revision of an OMB-approved information collection.

Modality of collection | Number of respondents | Frequency of response | Average burden per response (minutes) | Estimated total annual burden (hours)
Modernized Claims System (MCS) | 557,650 | 1 | 9 | 83,648
Paper | 29,350 | 1 | 10 | 4,892
Totals | 587,000 |  |  | 88,540

2. Request for Earnings and Benefit Estimate Statement—20 CFR 404.810—0960-0466. Section 205(c)(2)(A) of the Act allows the Commissioner of SSA to establish and maintain records of wages paid to, and amounts of self-employment income derived by, each individual as well as the periods in which such wages were paid and such income derived. An individual may complete and mail Form SSA-7004 to SSA to obtain a Statement of Earnings or Quarters of Coverage. SSA uses the information Form SSA-7004 collects to identify respondents' Social Security earnings records, extract posted earnings information, calculate potential benefit estimates, produce the resulting Social Security statements, and mail them to the requesters. The respondents are Social Security number holders requesting information about their Social Security earnings records and estimates of their potential benefits.

Type of Request: Revision of an OMB-approved information collection.

Modality of collection | Number of respondents | Frequency of response | Average burden per response (minutes) | Estimated total annual burden (hours)
SSA-7004 (paper) | 17,219 | 1 | 5 | 1,435
SSA-7004 (Internet) | 3,198,361 | 1 | 5 | 266,530
Totals | 3,215,580 |  |  | 267,965

3. Questionnaire About Special Veterans Benefits—0960-0782. SSA regularly reviews individuals' claims for Special Veterans Benefits (SVB) to determine their continued eligibility and the correct payment amounts owed to them. Individuals living outside the United States receiving SVB must report to SSA any changes that affect their benefits, such as (1) a change in mailing address or residence; (2) an increase or decrease in a pension, annuity or other recurring benefit; (3) a return or visit to the United States for a calendar month or longer; and (4) an inability to manage benefits. SSA uses Form SSA-2010, Questionnaire About Special Veterans Benefits, to collect this information. Respondents are beneficiaries living outside the United States collecting SVB.

Type of Request: Revision of an OMB-approved information collection.

Modality of collection | Number of respondents | Frequency of response | Average burden per response (minutes) | Estimated total annual burden (hours)
SSA-2010 | 1,308 | 1 | 20 | 436

Dated: June 25, 2013.
Faye Lipsky,
Reports Clearance Director, Social Security Administration.

[FR Doc. 2013-15520 Filed 6-27-13; 8:45 am]

BILLING CODE 4191-02-P